DEPARTMENT OF JUSTICE

Notice of Lodging of Proposed Consent Decree Under the Comprehensive Environmental Response, Compensation, and Liability Act

On September 3, 2014, the Department of Justice lodged a proposed consent decree with the United States District Court for the Northern District of Indiana in the lawsuit entitled United States and the State of Indiana v. Atlantic Richfield Company and E. I. du Pont de Nemours and Company, Civil Action No. 2:14-cv-312.

In the Complaint, the United States and the State of Indiana allege that Atlantic Richfield Company (“ARC”) and E. I. du Pont de Nemours and Company (“DuPont”) are liable under the Comprehensive Environmental Response, Compensation, and Liability Act for lead and arsenic contamination in the soils and subsurface soils of Zones 1 and 3 of Operable Unit 1 of the U.S. Smelter and Lead Refinery, Inc. Superfund Site (“Site”) in East Chicago, Indiana.

Under the consent decree, ARC and DuPont will, inter alia: (i) Pay all of the United States' and Indiana's costs to clean up Zones 1 and 3 (“Z1&3”) of Operable Unit 1 of the Site; (ii) properly transport and dispose of the wastes that are generated during the clean-up of Z1&3; and (iii) pay EPA for projected response costs, plus a premium, at certain “excluded” properties within Z1&3, unless ARC and DuPont are entitled to, and do, opt out of this payment in exchange for not securing a covenant not to sue and not receiving contribution protection on these “excluded” properties.

The publication of this notice opens a period of public comment on the consent decree. Comments should be addressed to the Acting Assistant Attorney General, Environment and Natural Resources Division, and should refer to United States, et al. v. Atlantic Richfield Company, et al., D.J. Ref. No. 90-11-3-10884/1. All comments must be submitted no later than thirty (30) days after the publication date of this notice. Comments may be submitted either by email or by mail:

To submit comments: | Send them to:
By email | pubcomment-ees.enrd@usdoj.gov
By mail | Acting Assistant Attorney General U.S. DOJ—ENRD P.O. Box 7611 Washington, DC 20044-7611

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check in the amount of $75.75 (25 cents per page reproduction cost) payable to the United States Treasury. For a paper copy of the body of the Consent Decree without the exhibits, the cost is $15.50.

Randall M. Stone,
Acting Assistant Section Chief Environmental Enforcement Section, Environment and Natural Resources Division.

[FR Doc. 2014-21383 Filed 9-8-14; 8:45 am]

BILLING CODE 4410-15-P